SECURITIES AND EXCHANGE COMMISSION

[Release No. IC-27840]

Notice of Applications for Deregistration Under Section 8(f) of the Investment Company Act of 1940

May 25, 2007.

The following is a notice of applications for deregistration under section 8(f) of the Investment Company Act of 1940 for the month of May, 2007. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on June 19, 2007, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE.,Washington, DC 20549-1090.

FOR FURTHER INFORMATION CONTACT: Diane L. Titus at (202) 551-6810, SEC, Division of Investment Management, Office of Investment Company Regulation, 100 F Street, NE., Washington, DC 20549-4041.

Prudential Unit Trusts Prudential Equity Trust Shares 1 [File No. 811-5046]

Summary: Applicant, a unit investment trust, seeks an order declaring that it has ceased to be an investment company. By January 10, 2005, each series of applicant had made its final liquidating distribution to unitholders, based on net asset value. Applicant incurred no expenses in connection with the liquidation.

Filing Dates: The application was filed on March 1, 2007, and amended on May 22, 2007.

Applicant's Address: First Trust Portfolios, L.P., 1001 Warrenville Rd., Suite 300, Lisle, IL 60532.

Seligman Quality Municipal Fund, Inc. [File No. 811-6100]

Summary: Applicant, a closed-end investment company, seeks an order declaring that it has ceased to be an investment company. On March 23, 2007, applicant made a final liquidating distribution to its shareholders, based on net asset value. Expenses of $125,904 incurred in connection with the liquidation were paid by applicant. Applicant has retained $1,000 in cash to pay certain outstanding expenses related to the liquidation.

Filing Dates: The application was filed on May 1, 2007, and amended on May 21, 2007.

Applicant's Address: 100 Park Ave., New York, NY 10017.

California Investment Trust II [File No. 811-4418]

Summary: Applicant seeks an order declaring that it has ceased to be an investment company. On January 4, 2007, applicant transferred its assets to California Investment Trust, based on net asset value. Expenses of $74,000 incurred in connection with the reorganization were paid by the acquiring trust.

Filing Dates: The application was filed on April 27, 2007, and amended on May 18, 2007.

Applicant's Address: 44 Montgomery St., Suite 2100, San Francisco, CA 94104.

Putnam Florida Tax Exempt Income Fund [File No. 811-6129]

Summary: Applicant seeks an order declaring that it has ceased to be an investment company. On February 26, 2007, applicant transferred its assets to Putnam Tax Exempt Income Fund, based on net asset value. Expenses of $52,000 incurred in connection with the reorganization were paid by applicant and the acquiring fund.

Filing Date: The application was filed on April 27, 2007.

Applicant's Address: One Post Office Sq., Boston, MA 02109.

First Fiduciary Trust [File No. 811-21445]

Summary: Applicant seeks an order declaring that it has ceased to be an investment company. Applicant has never made a public offering of its securities and does not propose to make a public offering or engage in business of any kind.

Filing Date: The application was filed on April 25, 2007.

Applicant's Address: 442 W 47th St., Kansas City, MO 64112.

TT International U.S.A. Feeder Trust [File No. 811-9975]

TT International U.S.A. Master Trust [File No. 811-10151]

Summary: Applicants, a feeder fund and a master fund, respectively, in a master-feeder structure, each seek an order declaring that it has ceased to be an investment company. On September 26, 2005, TT International U.S.A. Master Trust (“Master Trust”) distributed substantially all of its assets to TT International U.S.A. Feeder Trust (“Feeder Trust”). On that same day, the Feeder Trust made a liquidating distribution to its shareholders other than TT International, its investment adviser, based on net asset value. The Master Trust has retained certain cash and tax reclamation assets, which are being held in custody by The Northern Trust Company. Once the Master Trust receives the outstanding tax reclamation amounts, it will make a final liquidating distribution to the Feeder Trust, which in turn will make a final distribution to TT International. Applicants' investment adviser, TT International, paid $65,000 in expenses incurred in connection with each liquidation.

Filing Dates: The applications were filed on December 6, 2005, and amended on May 8, 2007.

Applicant's Address: C/O SEI Investments Global Funds Services, One Freedom Valley Dr., Oaks, PA 19456.

Antenor Fund, LLC [File No. 811-21089]

Beaumont Fund, LLC [File No. 811-21090]

Summary: Each applicant, a closed-end investment company, seeks an order declaring that it has ceased to be an investment company. On December 31, 2006, each applicant made a liquidating distribution to its shareholders, based on net asset value. Expenses of approximately $3,333 incurred in connection with each liquidation were paid by Prospero Capital Management, LLC, investment adviser to each applicant.

Filing Dates: The application for Antenor Fund, LLC was filed and amended on March 1, 2007, and amended on April 20, 2007. The application for Beaumont Fund, LLC was filed on April 20, 2007.

Applicant's Address: C/O Prospero Capital Management, LLC, Wall Street Plaza, 88 Pine St., 31st Floor, New York, NY 10005.

First Funds [File No. 811-6589]

Summary: Applicant seeks an order declaring that it has ceased to be an investment company. By June 2, 2006, applicant had transferred its assets to corresponding series of Goldman Sachs Trust, based on net asset value. Expenses of $966,321 incurred in connection with the reorganization were paid Goldman Sachs Asset Management, the surviving fund's investment adviser.

Filing Dates: The application was filed on January 17, 2007, and two amended applications were filed on March 29, 2007, and May 21, 2007.

Applicant's Address: First Tennessee Bank National Association, Attn: Karen Kruse, 530 Oak Court Dr., Suite 200, Memphis, TN 38117.

Agile Funds, Inc. [File No. 811-21329]

Summary: Applicant seeks an order declaring that it has ceased to be an investment company. By February 15, 2007, all of applicant's shareholders had redeemed their shares at net asset value. Expenses of $5,000 incurred in connection with the liquidation were paid by Tactical Allocation Services, LLC, applicant's investment adviser.

Filing Dates: The application was filed on February 28, 2007, and amended on April 18, 2007.

Applicant's Address: C/O Tactical Allocation Services, LLC, 4909 East Pearl Circle, Suite 300, Boulder, CO 80301.

Cohen & Steers Quality REIT Preferred Fund, Inc. [File No. 811-21086]

Cohen & Steers Dividend Advantage Realty Fund, Inc. [File No. 811-21203]

Cohen & Steers Total Return Realty Fund II, Inc. [File No. 811-21310]

Cohen & Steers Dividend All Star Fund, Inc. [File No. 811-21573]

Summary: Each applicant, a closed-end investment company, seeks an order declaring that it has ceased to be an investment company. Applicants have never made a public offering of their securities and do not propose to make a public offering or engage in business of any kind.

Filing Dates: The applications were filed on March 21, 2006, and amended on May 16, 2007.

Applicant's Address: 280 Park Ave., 10th Floor, New York, NY 10017.

For the Commission, by the Division of Investment Management, pursuant to delegated authority.
Florence E. Harmon,
Deputy Secretary.

[FR Doc. E7-10561 Filed 5-31-07; 8:45 am]

BILLING CODE 8010-01-P